DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending December 31, 2017. For purposes of this listing, long-term residents, as defined in section 877(e)(2), are treated as if they were citizens of the United States who lost citizenship.

Last name | First name | Middle name/initials
AAROE | ALEXANDER | TROXLER
AARON | BERNARD | SAMUEL
ABBOTT | KATHERINE | ELISE
ABE | DAISUKE |
ABEND | LINDA | ESCHENBACH
ABORD DE CHATILLON | HENRI |
ABOUSLEIMAN | RANDA |
ABUGHAZALEH | HANI | MAHER
ADAMS | PAUL | EDWARD
ADAMS | TAMARACK | LYNN
ADAMS-GN | DOROTHY | WAN PIO
ADLER | KRISTEN | ELIZABETH
AEBI | CHRISTIAN | LUC
ALBERT | MICHELLE |
AL-DOSSARY | RAIED | IBRAHIM
ALLEN | ALEXANDRA | SANDY
ALLEN | KATY | ELIZABETH
ALLEN | THOMAS | MARK
AL-THANI | ABDULAZIZ | SAOUD
ALTMANN | ARYEH | SALOMON
ANDERS | LAURA | ELIZABETH
ANDERSON | ABBE | LANE
ANDERSON | CHRISTINE | DIANE
ANG | JOHN | WEI-EN
ANGLIN | GAIL | PANTLEY
ANSEL | CLIFFORD |
ANSEL | REBECCA | LIBA
ANZAI | AMANDA | KIM
ANZAI | HIROYUKI |
ANZAI | RYAN | HIRO
ANZAI | TAIGA | KIM
ARCEMENT | GREGORY | WORTHY
AREITIO | ALEXANDRA | LUISA
ARGYROS | SANDRA |
ARONSON | BARR | SHMUEL
ARORA | RUPINDER | KAUR
ARRABI | IMAD | AHMAD
ARRABI | LEILA | MOHAMED
ARSENAULT | ADELE | HELENE
ARTEAGA | CHRISTOPHER | JON
AYLEN | CARL | ARTHUR WILLIAM
AYLEN | MARITA | FRANCES
BACKHOUSE | HAZEL | MARY
BAKER | CONSTANCE | JOHANNA
BARAKAT | YUSRA | WALEED
BARIBEAU | JUDITH | EDNA
BARRIGA | PABLO |
BATTJES | BENJAMIN | PAUL
BATTJES | PAUL | JURREN
BATUYOG JR | JAIME | PONTINO
BAUER | HERBERT | J.
BEALE | CHRISTOPHER | ROBERT
BEAUBIEN | ELIOT | RENE
BEAULNE-BELISLE | KATERI |
BEDORET | ALEXANDRA | MARIE
BELANGER | JEROME |
BEN-HAMO | TAL | TROST
BENSON | RANDALL | PAUL
BEST | ANGELA | SHIRLEY
BIERE | BORIS | ALEXANDER
BISHOP | MICHAEL | JOHN
BISKUP | MONA | REIS
BOCKNER | RUTH | ELLEN
BOOTH | JASON | ERIC
BOTHELLO | EUGENE | PAUL
BOUCHARD | EVELYNE | ANNE S.
BOUCHARD | SARAH | ANN
BROENNIMANN | LARA | NOELLE
BROENNIMANN | NICOLAS | CHRISTOPH
BROOKS | FLORA | MARY ALICE MCEWEN
BRUCE | CAROL | ANNE
BRYNER-MORENO | LINDA | ELIZABETH
BUITENHUIS | PAUL | JASON
BURKE | DENNIS | JEFFREY
BURTON | PATRICIA | ANN
BUSH | JONATHON | WILLARD
BUTCHER | AMY | CHRISTINE
BUTLER | KIMBERLY | ANNE
BUTORIN | DMITRY |
CABANA | MARIANNE | JACINTHE
CAPARROS | NANCY | VOGELER
CAPT | CLAUDIA | MARY
CARPENTER | ADAM | JOHN
CARTER | ADAM | MILROY
CARTER | CHRISTINE | PAULA
CASSIMAN | ANN | AGNES
CERIMELE-WELCH | CRAIG |
CHALMERS | WILLIAM | ALEXANDER
CHAN | JONATHON | BERTRAM CHIU YEE
CHAN | PETER | WAI MAN
CHANG | VICKIE | H.
CHAYA | ELIE | F.
CHEN | FRANCIS |
CHEW | YU | JIE
CHIN | HEI | LAM
CHIP | GERALD | AH-KOY KWONG
CHISHOLM | PATRICIA | MAE
CHOGUILL | CHARLES | LEWIS
CHOI | GEUMIL |
CHOY | ALMA | TUEN WING
CHU | KIN | SHING
CLARK | GISELLE | PLOUFFE
CLAUS | MICHELLE | CELIA
COFINO | WILLEM | PETER
COHEN | BRUCE | EDWARD
COLLIN | MITCHELL | BENJAMIN
COLLIN | TY | JACOB
COLLYNS | PATRICIA | M.
COLTER | LAWRENCE | JOHN
CONNOR | GRANT | MATTHEW
CONNOR | GREGORY | SCOTT
CONRATH | JOHN | G.
COOLS | VERONICA | CATHERINE
COPP | CHRISTOPHER | ALAN
CORMAN | SARAH | WILSON
CORSINI | MELISSA | ANN HELEN
CORSON | DONALD | WILLIAM
CORTES | JORGE | EZEQUIEL ORDONEZ
CORTEZ | MARIA | IZABEL
CORVILAIN | CATHERINE |
CORY JR | EDDY | WAYNE
COSTAIN | JANICE | CAROL
COTE | ROGER | RICHARD
CURRAT | NATHALIE | JENNIFER
CURTIN | MARGARET | MARY
DAINOW | NEEMA | LAKIN
DALEY | JUDITH | ELLEN
DANELIAN | MELANIE |
DANKS | KATHERINE | TENNEY
DARWICHE | JACQUELINE | SCHMID
DAVALOS | JANETTE | RAMONA CLEMENS
D'AVAUCOURT | CHRISTIAN | JOHN DE VITRY
DAVIS | KIM | ELAINE
DAVIS | LYNNE | FELICY
DAVISON | JOYCE | ANN
DE BANDT | FELIX |
DE MONTULE | THOMAS | GUY DU BOIS
DE VILLAFRANCA | GEORGIA | LEIGH
DEABLER | GREGORY | HALL
DEARING | AIMEE | CATHRYN
DENNILL | VICKI | LEE
DESLARZES | KENNETH | JEAN-PASCAL JOSEPH
DESY | MARGUERITELYNDSEY | MARIE
DIAMOND | ABRAHAM | JOSEPH
DING | JASMINE | YONG KIM
DISKIN | ALLON | EHUD
DITTON | THOMAS | CHARLES
DOFFING | BRANDON | CONRAD
DOLDER | MATTHYS | VALENTIN
DOMANIG | GINA | ALINE
DONALDSON | GREGORY | PETER DANIEL
DORFMAN | HARLAN | RUSSELL
DUBY | CHRISTIAN | GERARD
DUNCAN | ASHLEY | ELLEN
EBERLE | WENDY | JOAN
ECHEVARRIA | GORKA |
EDELSON | MIRIAM | KARIN
EKSTROM | MARTIN |
ELDRIDGE | MARK | DAVID
ELLIOTT | JOHN | FRANK
ELLIS | KIRI | JEANETTE
ELSER | MARINA | ELIZABETH
ENGEL | SHELLEY |
EPPS | MATTHEW | CARL
ESBENSEN | CATHARINA | HAKANSSON
ESCALEIRA | NICOLE | LYNN
ETHIER | PEGGY | MARILYN NEWELL
EVANS | MYRA |
EYMAN | ELLEN | LOOS
EYSSAUTIER | JESSICA | ALICE
FAESSLER-NELSON | ERIKA | THERESE
FAGNOUL | FRANCOIS | JEAN
FALBY | OHNA | ELIZABETH
FAN | HENRY | SHING LEUNG
FAN | KELVIN | SHIH LEI
FARRIS | BYRON | ABRAHAM
FINN | HELEN | CECILIA
FISCHER | ULRICH | DANIEL
FLANAGAN | JOHN | WALTER
FLEMING | CAROL | CHRISTINE
FLEMING | GEORGE | ALAN
FORBES-JAEGER | CHRISTOPHER | BRENDAN
FORRESTER | DEAN |
FORSYTH | FOREST | ALLEN
FORTE | TANIA |
FOWLER-ROBERTS | SARAH | MEAGAN
FOX | DAVID | BERNARD
FOX | JANUS | MARY
FRANCIS | BARBARA | MARY
FREEDMAN | BRUCE | ROBERT
FREIGANG | DOLORES | DIANE
FRENCH | MATTHEW | REILLY GRAHAM
FREY | CHRISTIAN |
FRIETS | NEAL | RYAN RUI YANG
FRUTKIN | MARK | JAMIE
GALLOWAY | DUNCAN | JAMES
GAUTHIER | RACHEL | ANNE
GAYLE | YASMIN | VICTORIA
GELIN | ADAM |
GERBER | KERRY | DUANNE
GERBOLINI | ALESSANDRA |
GERICKE | DANIEL |
GERKENS | NORMA | LOUISE
GFELLER | DAVID | HERMANN
GIEN | AILEEN | TRAN
GILL | JASVIR | SINGH
GLASER | TRUDY | LEE
GOLDSTEIN | MARISSA | HEATHER
GOOD | JEFFREY | TAMARIN
GORDON | NETA |
GRAHAM | BRUCE | HUXTABLE
GRAHAM | HEATHER | ELLEN
GRAY | MARY | MARSHALL
GREE | SARA | DESCALZO
GREEN | ARLO | JAMES PAOLI
GREEN | JEMMA | PAOLI
GREISMAN | JESSICA | LORI
GROTH | ARCHIE | KENNETH
GU | NAN | JENNIFER
GUALTIERI | JUDY | ANN GARDNER
GUDMUNDSSON | FREYR |
GUGLIELMI | STEFANO | BRUNO
GUSBERTI | JOSEPHINE |
GWINN | OWEN | ELLAR
HAAS | ANDRE |
HAEFELI | CHRISTOPH |
HAGA | KENT | WERNER
HAIDEN | ANTHONY |
HALL | ANDREW | CHARLES
HAMILTON | KAREN | LOUISE
HAN | CHONG | AE
HANDELMAN | ROBERT | JASON
HANNA | MARTHA | LOU
HAO | JULIE | CHRISTINA
HARPAZ | IDDO |
HARSOJO | MELINA |
HATCH | STUART | ALBERT
HAWKES | PETER | NORMAN
HAWKINS | TRISHA | LEE-ANN
HAYES | ANNE | ELIZABETH
HAYES | MARY | SIOBHAN
HELLEUR | CHRISTOPHER | DONALD
HENRY | WALTER | BRUCE
HENSEN | JASON | KLEIS
HERRING | NANCY | JOAN
HERRMANN | MARCUS | MACKIE
HILTON | JONATHON | EDWARD
HINTZE | DENNA | LYNN
HOETH | CHRISTOPHER | RALPH
HOFER | DEBORAH | JEAN
HOFFMAN | MARCIA | ELAINE
HOLLENSTEIN | BENEDIKT | MAURUS
HORAN | PHILIP | LAURENCE
HORTON | DOROTHY | VIVA
HOSANG | JARRED | MICHAEL
HOWLING | EILEEN | ELIZABETH
HUANG | ANDREW | CHIH-CHUN
HULSMAN | KRISTEN | LYNN
HUMPHREYS | TIMOTHY | RYAN
HUNNINGHAUS | SONJA |
HUNSICKER | SCOTT | ALLEN
HUNT | SUSAN | SCOTT
HWANG | BO | EEN
HYUN | JANET | M.
IRVINE | SCOTT | DAVID
IRWIN | CHERYL | MARIE
JACOB | ROCHUS |
JAGOE | ARMIGER | LOUIS
JBAREH | HASAN |
JENSEN | ERIC | ANDRE
JEONG | EUN | JO
JONAS | CAROLINE | SUSAN
JONES | ADAM | LLOYD
JONES | IAN | LLOYD
JONES | MICHAEL | HOLCOMBE
JOPE | JAMES | HENRY
JOY | JAIDA | MARIE
KABANI | KHALEEDA | YASMYNE
KAINER | JAN | MELANIE
KALLEVIG | THOMAS |
KALLMAN | TIMOTHY | GABRIEL
KAM | PRESTON |
KANEVSKY | GINA | FAY
KEALEY | MATTHEW | JARVIS
KEATING | THOMAS | FREDERICK
KHALIL | ISMAIL |
KHALIL | MIRNA | ABDALLAH ALI-AHMAD
KHALILI | KAYVON | ALAN
KHOURY | ISSAM | RAFIC
KIM | DAVID |
KIM | HYEON |
KINDSCHI | JAN |
KIRCZENOW | FRANCES | HUBERTINE
KLEINER | NATHANIEL |
KLINGELHOFFER | JOSEPH | ANTHONY
KLINGELHOFFER-JANOS | KAREN | MARY
KNIGHT | MICHELLE | ANDREA
KO | JACQUELINE |
KO | SHU-CHIN |
KOCMAN | JAN | ANTHONY
KOGELSCHATZ | DIRK | ULRICH
KOHLER | SANDRA | KOREEN
KONG | CHIA-WI |
KOSTIOUCHINA | OLGA |
KOSTYK | SARAH | ROSEANNA
KOWALENKO | DARLA | CONNIE
KRAMER | MICHAEL | DENNIS
KREDITOR | AYALA | TOBY
KRESTELL | MARCIA | CAROL
KUBBENGA | OTTO | W.
KUBEL | ANITA | CHRISTINE
KUGLE | LEROY | RUSSELL
KUPFERSCHMID-MOY | LAUREN |
KURKE | ALEXANDER | DAVID
LABRECHE | OLIVIER | VINCENT
LADOUCEUR | THERESA | JANET
LAFORME | SANDRA | JEAN
LAM | CHRISTOPHER | IAN
LAMB | SUSANNA | EYRE
LAMERS | MARIAN |
LANDRY | MAURICE |
LANDRY | NANCY | ANN
LARON | AVIDAN | DAVID
LAU | KWAN | HO GARETH
LAVENDER | ANNE | VICTORIA
LAWSON-BROWN | JANE | ELIZABETH
LEBLER | BRIAN | EDWARD
LEBRUN | LINNES | MARIE
LECART | CAROL | JEANNINE
LEE | DON | YEE
LEE | ELMER | JEN-KAI
LEE | ELVIS | PERIC
LEE | KENG | CHONG
LEE | NEVILLE | KA SHEK
LEE-YING | DANIELLE | MARIE WAIDUG
LEE-YING | MARY | PUI LIN
LEE-YING | RICHARD | MARVIN YEW-GUM
LEE-YING | ROY | DOUGLAS YEW-KEUNG
LEMMENS | KRISTOF | JAN
LEMOINE | GERALDINE | KATARINA MARIE
L'ESTRANGE | FIOONA | ANNE KATHLEEN
LETOURNEAU | LORRAINE |
LEYERLE | ANDREW | GEOFFREY
LI | MARGARET |
LIAW | YONG | HAO
LILWALL | DAVID | ROSS
LIN | RAY | JEN
LIN | SHIH | PING
LINDER | PATRICK | ALOYSIUS
LLOBET | LAURA |
LOGALBO | MARK | STEVEN
LOGAN | ERICA | ANARISHA
LONG | ALISON |
LOVELL | BROOKE | DOUGLAS
LOW | ZEPPELIN | HERC
LOWE | VIVIANE |
LU | CHIA-HUI |
LU | FU | PEI
LU | SHAO-CHIANG |
LUBOMIRSKI | DOMINIK | WILLIAM TOMASZ
LUNNEY | JEANNINE | ANN
LUPI | THOMAS | AVERY
LYNCH | BRIAN | JAMES
LYNCH | LAURA | MARIE
MACDONALD | JOHN | ALLISTER
MACDONALD | ROBERT | JAMES
MACKAY | JANICE | FRANCES
MACLARKEY | WILLIAM | ROBERT
MAGGISANO | KATHLEEN | LINN
MAGNIN | ELLEN |
MAHMOOD | RAHIL | DERWESH
MAHMOUD | RAMZEY |
MAHONY | MATTHEW | PAUL
MAKWICH | MICHAEL | MERVIN
MALCOLM | SABRINA | BARKLEY
MALINGREAU | OLIVIA | AGNES ISABELLE
MALYJASIAK | LAURA ANN | HATCHETT
MANSFIELD | ANDREA | CELINE
MAROZEAU | DIANE | RITTER
MARSHALL | STUART | WAYNE
MARTINEAU | CHARLES | PICARD
MARTINEZ | ANTHONY | EIRIZ
MATZNER | ANNA-SOPHIE |
MAYNE | MELINDA | CATHERINE
MBISE | HEZRON | DAUD
MCALPINE | HEATHER | ELIZABETH
MCCULLOCH | ALISON | WILMA VALENTINE
MCCURLEY | KEVIN | ROBERT
MCDIARMID | ADAM | POPE
MCDONNELL | STEVEN | DAVID
MCDOUGALL | ANNE | S.
MCDOUGALL | ROBERT | J.
MCGREGOR | CATHERINE | AVIS
MCKINNON | ANNE | LOUISE
MCLEAN | LAURIE | ELIZABETH
MCMULLEN | PETER | MICHAEL
MCQUEEN | CAROL | VIVIAN
MCSHAN | ROSEMARY | AGNES
MEIER | LUCAS | D.
MELLE | JESS | ROBERT
MENDANA | MARGRIT |
MERCER | LORRAINE |
METCALFE | ROBERT | BRUCE
MHAPSEKAR | YASH | RAGHUNATH
MINNEY | MICHELLE | SUSAN
MITCHELL | ANDREW | STEWART
MIZRAHI | BATYA |
MIZUNO | MAKOTO |
MODY | SARAH | ELIZABETH
MOE | TIMOTHY | LEE
MOESCHLER | OLIVIER | ANDRE
MOLITOR | GREGORY | CHARLES NEIL
MOON | THOMAS | WILLIAM
MOORE | KRISTIN | NICKELS
MOSER | ANGELICA |
MOULTON | JOANNE |
MUCHENBERGER | CAROL |
MUELLER | CHRISTIAN | WILLIAM
MUMPRECHT | YASMIN | DARA
MUPPANA | VENKAT |
MURRIN | JAMES | CHADWICK
MURTHY | PRASHANTH | MALPANAGUDI NARASIMHA
MUSIAL | AARON | JEDIDIAH
MUTTER | MARIO |
MYHRE | ANGELA | M.
NABI | SHAMSHAD |
NAM | SUNNY | SANG
NEUHAUS | SYLVIA |
NEVIN | LAURA | QUITHEART
NG | AMANDA | RI YING
NG | NELSON | YU-HANG
NG | YU | CHING CANNICE
NGUYEN | DON | DONG
NICKELS | HILDEGARD | ELIZABETH
NICKELS | JAMES | BRADLEY
NICOLAI | JEAN-MARC | ANTOINE
NIEDERER | PATRICK |
NIELSEN | CATHLEEN | HEATHER
NILE | ALEXANDER | WILLIAM BRYCE
NIXON | SUZANNE |
NORMAN | JADIS | KARLA LORCA
NORTHRUP | LINDA | STEVENS
OCLEPPO | ALEXANDER | LORENZO
OCLEPPO | JULIAN | FRANCESCO
O'CONNOR | JAMES | MICHAEL
ODY | CHRISTINE | ANN
O'KEEFE | JAYE | ANN
OLDHAM | BONNIE | LYNN
OLSON | DANIEL | PHILIP
ONYA | PAVEL | A.
OSTER | JOANNE | ELIZABETH
OUELLETTE | CAROLYN | RUTH
OWEN | GARETH | SCHABERT
OZOLINS | TERENCE | ROBERT
PAGGAO | NOEL | CAWA
PAL | JOEETA | JAYANTKUMAR
PALMER | NEAL | GRANT
PAOLI | SHEILA | MARLENE
PARLEE | FORREST | WILLIAM
PARTONO | SANITRI | SURJAUDAJA
PATEL | HEMANT | BABUBHAI
PATEL | SANDHYA | HEMANT
PAUKER | JOSEPH |
PEDEN | KATHERINE | LEWIS
PELLETIER | STEPHEN | PAUL
PENISTON | JAMES | HUTCHINGS TROTT
PERKINS | THOMAS | CLARK
PETERSON | ERIC | DEAN
PETERSON | GARY | LYNN
PETRE | ELIZA | DANIELLE
PETTI | GREGORY | RICHARD
PETTI | KATHLEEN | MARY
PIERSON | JANICE | ETHEL
PILLOUD | LINDA | TRYON
PLANTINGA | JUDITH | ANN
PLATT | CRAIG | ROBERT
PLATT | DAVID | GREGORY
PLATT | VIRGINIA | ANNE
POBOJEWSKI | THOMAS | GEORGE
POEHLS | JOE | TEJOME
POITEVIN | JOHN-ROBYN | A.R.E.C.
POPE | ALISON | CICELY MAITLAND
POPESCU | DIANA | MIHAELA
POST | ELLEN | ELIZABETH
POWELL | ANDREA | LI MING
POWNALL | BARBARA | ELIZABETH KUEBEL
PREAT | VERONIQUE | MARIE
PUIG | MARIA |
PURDY | SARA | ELIZABETH
QUADRI | NICOLA | STEFANO
QUICK | MARY ANN | CATHERINE
QUICK | MICHELLE | CAROLYN
RACH | MATTHEW | LANE
RAJU | SRIDHAR | P.
RAND | MICHAEL | JONATHON
RASHLEIGH | CAMERON | KYLE
REDDY | KADIRI | RAMACHANDRA
REDDY | PRATIBHA | KADIRI
REDDY | SHILPA |
REDNER | DEBORAH |
REINHARD-CHARLESWORTH | ZARINA | MARIAM
REMILLARD | LOUIS | ROGER JERRY
RENWICK | LINDSAY | CAITLIN
RICKER | NANCY | ANNE
RICKERT | ELIANE |
RIVAS JR | GEORGE |
ROBERTSON | GREGORY | EARL
ROBINSON | JUDITH | ANN
ROBINSON | NOREEN | MARGARET
ROFFEY | KIMBERLY | ANN
ROGOFF | JENNIFER | LYNN
ROMANELLI | MARIA | ROSARIO
ROSE | CAPRYCE | AVRIL
ROSENBERG | ALAN | NELSON
ROSENSWEIG | YEDIDYA | SHAI
ROTH | RAPHAEL | GASTON
ROTHSCHILD | CARL | JAN
ROTH-SCHMID | BEATRICE |
ROUGET | VINCENT | GEORGES
RUDDOCK | NORA | MARY NIGHEAN
RUDIN JR | HARRY | RUDOLPH
SAEED | IRINA | R.
SAID | FAISAL |
SAITO | YASUSHI |
SAJWANI | AHMED | FAISAL
SAJWANI | AMIRA | FAISAL
SAJWANI | FAISAL | ALI
SAJWANI | ZAHRA | FAISAL
SANDBERG | DANIEL | JOCHANAN
SANDBERG | ELLEN | LEE
SANGHVI | VIKRAM | VIVEK
SANT | BRENNA | LUCY
SAPIR | MICHAL | JUDITH
SASAHARA | RICA |
SATO | ROBERT |
SAVAN | ROBERT | BEN-AMMI
SCERVINO | JOSEPHINE | PREZIOSA
SCHAUB | JASON | HOWARD
SCHMIDT | MARITA | GABRIELE
SCHNEIDERMAN | AIMEE | YAEL
SCHRATWIESER | ALITA | LYNN
SCHULKES | EDEN |
SCHULKES | MICHAL |
SCHWARTZ | SHAILA |
SCHWARZ | PETER | ANDREW
SCHWEIGHAUSER | ANDREAS | EVERETT
SEGON-MEYER | CLAUDIA | DIEGUEZ
SEILER | SUZANNE | TOMASELLI
SEILHAMER | MARK | FIFER
SENN | EILEEN | VALERIA
SEVERINA | ANASTASIA |
SHAH | PRASANNA | KANTILAL
SHAMIE | DIANE | MARIE
SHATZKES | YECHIEL |
SHEEHY | VALERIE | JEAN
SHIN | HYUN | S.
SIBLEY | MURIEL | KATHERINE LALLANCE
SILBERSTEIN | ALLEN | GABRIEL
SINGH | RAVI | PAUL
SKINNER | PAULA | MAY
SKIPPER | MICHAEL | SEAN
SLATER | JULIA | DIANE
SLOAN | BRIAN | GREGORY
SMAIL | IAN | ROBERT
SMALL | ELIZABETH | JANE
SMITH | MARY | CHRISTINE
SMOLLETT | REBECCA |
SNYDER | HENRY | PETER
SPEISSEGGER | ANDRE | MAURICE
SPENCER | DAVID | CHARLES
STAATES | JEFFREY | STERLING
STCHEDROFF | MARCEL |
STEINHART | DEBORAH | GAIL
STEPANIK | SCOTT |
STEPHENSON | MARCIA | MARTIN
STERN-LYNGE | SUSAN | ELLEN
STEVENSON | LYNN | EDENA CODY
STEWART | TYLER | JOHN
STILLER | OLIVER |
STIRLING | CHRISTINE | DUMARESQ
STITELER | MARTA | TERESA
STRUBI | PASCAL | OLIVIER
STUDER | EMILIE | LISA
SUAREZ-OTTERSBACH | GLORIA | ELENA
SUEN | STEPHANIE |
SUGARS | HEIDI | LYNNE
SUH | SOO | JUNG
SUH | SOOYONG |
SWEENY | STEPHANIE | FRANCES
SWENSON | CATHERINE | HAFEY
SWIEDNICKI | RACHEL | JEANNE
TAILLIEU | ARNE | KARL
TAJIBNAPIS | MARJAH | CHRISTINA
TAKAHASHI | JUNKO |
TALAB | FARBOD | HAGHIGHI
TALEB | SAMIR | G.
TANGUAY | JOSEPH | GERALD ROLLAND
TANNAHILL | SHARON | BERTHA
TANNIR | IKBAL |
TANNIR | SAFWAN |
TANTAKASEM | PITI |
TANTRIADY | ALICIA | ILEANA
TAVES | JAMIE | DIANNE
TAYLOR | ANDREW | SCOTT RYAN
TAYLOR | ZACHARY | TODD
THOMAS | BENJAMIN |
THRASHER | DAVID | BRUCE
TILOT | FABRICE | DERRICK
TJEPKEMA | LEAH | KAITLIN
TOLSON | MARY | BETH
TOWART | ELIZABETH | M.
TRAPP | DOUGLAS | BLAIRE
TRAPP | JOEL | WILLIAM CHARLES
TREGER | JUSTIN | ISRAEL
TRODAHL | HARRY | JOSEPH
TSCHUDIN | JULIAN | TROY
TSE | KAI | LEE
TYOU | MARK | CHARLES
UMETSU | HIDEAKI | ROY
UPSHALL | ELIZABETH | MARGARET
VAN DEN BROEK | JASMINE | BARBARA
VAN DEN BROEK | SIMONE | CLAUDIA
VAN KAMPEN | ERIK | KARL
VANDERLAAN | JANE | MARIE
VANDERVALK | SHERILYN | RENAE
VANDERWALL | MARLON |
VANUN | JORDAN |
VERBEKE | INES | ELIZABETH-MARIE
VIGFUSSON | VANESSA | STEFANIA
VIGILEOS | LISA | M.
VOLD | PAULA | JO
VOLPATTI | KAREN | LYNN
VON SCHONBORN-WIESENTHEID | CONSTANTIN |
VON SCHULTHESS | CLAUDIA | ELISABETH
WACHTER | ROBERT | JAMES
WAHL | PIERRE-EDOUARD | CLAUDE
WALSH | HEATHER | ELIZABETH
WALSH | NEIL | CHRISTOPHER
WALTERS | DAVID | WYNN
WALTERS | MARY | MARGARET
WANG | FANGQIN |
WANG | HONG | MIN
WARING | STEPHANIE | ESTELLE
WATSON JR | TREVOR | WARD
WAXMAN | WAYNE | ALLAN
WEAVER | LINDA | ANNE
WEAVER | MICHAEL | GEORGE
WEEKS | JAMES | HOWARD
WEINSTEIN | WILLIAM | LEON
WELCH | DAVID | ANDREW
WEST | CHARLES | ROBERT
WEST | CYNTHIA | GAI
WEST | MARY ANN | ELIZABETH
WETZEL | THOMAS | MICHAEL
WEXLER | MICHAEL | JASON
WHITE | ANNIE | LAURENCE
WHITEHEAD | CYNTHIA | RUTH
WHITING | HANNAH |
WILDE | RUSSELL | NORTON
WILLIAMSON | PHYLLIS | ELAINE
WOERNER | NEIL | JOSEPH
WOIT | DEBORAH | ANN
WONG | KATHERINE | YAO
WONG | KIAN | CHONG DONOVAN
WOODWARD | MELISSA | JANE
WOOLGROVE | MARY | MARGARET
WU | EVANGELINE |
WUNDERLIN | MATILDA | MARIE
WURLOD | CAMILLE | GABRIELLE
WYCKOFF | THOMAS | ROBERT
YAGER | LESLIE | JANNETTE
YAMAMOTO | MIHOKO |
YAMMINE | ANTOINE | KABALAN
YAP | JESSE | ELLIOT
YATES | COLLEEN | MICHELLE
YEO | SHARON | MEI CHING
YEWEN | MARY | ANNA
YI | JIAHE |
YING | ROSA |
YOUNG | MAUREEN | TAYLOR CATHERINE
YOUNG | SELENA | SUK-CHING
YUSHVAEV | LLYA | GAVRIL
ZIADEH | KAREN | LORENZ
ZONZINI | MICHAEL |
ZWEIFEL | MICHAEL | GEORGE

Dated: February 2, 2018.
Gladys Perez-Hernandez,
Manager Classification Team 82413, Examinations Operations—Philadelphia Compliance Services.

[FR Doc. 2018-02656 Filed 2-8-18; 8:45 am]

BILLING CODE 4830-01-P